SECURITIES AND EXCHANGE COMMISSION

[Release No. IC—25346]

Notice of Applications for Deregistration Under Section 8(f) of the Investment Company Act of 1940

December 28, 2001.

The following is a notice of applications for deregistration under section 8(f) of the Investment Company Act of 1940 for the month of December 2001. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on January 22, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Somerset Exchange Fund [File No. 811-7703]

Summary: Applicant seeks an order declaring that it has ceased to be an investment company. On October 2, 2001, applicant's shareholders approved a proposal to convert applicant from a closed-end investment company to an open-end investment company. Shareholders of applicant were informed in proxy materials that following conversion to an open-end investment company, applicant would seek to deregister under the Act if redemptions caused the number of applicant's beneficial owners to fall below 100. Applicant will continue to operate as an unregistered pooled investment vehicle in reliance on section 3(c)(1) or section 3(c)(7) of the Act.

Filing Dates: The application was filed on November 13, 2001, and amended on December 20, 2001.

Applicant's Address: 800 Scudders Mill Rd., Plainsboro, NJ 08536.

Kemper National Tax-Free Income Series [File No. 811-2353]

Summary: Applicant seeks an order declaring that it has ceased to be an investment company. On June 11, 2001, applicant's two series, Kemper Municipal Bond Fund and Kemper Intermediate Municipal Bond Fund, transferred their assets and liabilities to Scudder Managed Municipal Bonds, a series of Scudder Municipal Trust, and Scudder Medium Term Tax Free Fund, a series of Scudder Tax Free Trust, based on net asset value. Expenses of $315,583 incurred in connection with the reorganization were paid by applicant and Zurich Scudder Investments, Inc., applicant's investment adviser.

Filing Date: The application was filed on December 5, 2001.

Applicant's Address: 222 South Riverside Plaza, Chicago, IL 60606.

Kemper Income Trust [File No. 811-8983]

Summary: Applicant seeks an order declaring that it has ceased to be an investment company. On May 29, 2001, applicant transferred its assets to Scudder High Yield Fund (formerly Kemper High Yield Fund), a series of Scudder High Yield Series (formerly Kemper High Yield Series), based on net asset value. Expenses of $42,990 incurred in connection with the reorganization were paid by applicant.

Filing Date: The application was filed on December 5, 2001.

Applicant's Address: 222 South Riverside Plaza, Chicago, IL 60606.

Kemper Asian Growth Fund [File No. 811-7731]

Kemper International Fund [File No. 811-3136]

Summary: Each applicant seeks an order declaring that it has ceased to be an investment company. On May 29, 2001 and June 18, 2001, respectively, each applicant transferred its assets to a series of Scudder International Fund, Inc., based on net asset value. Expenses of $39,129 and $360,873, respectively, incurred in connection with the reorganizations were paid by applicants and Zurich Scudder Investments, Inc., investment adviser to the applicants.

Filing Date: The applications were filed on December 5, 2001.

Applicants' Address: 222 South Riverside Plaza, Chicago, IL 60606.

PaineWebber Investment Series [File No. 811-5259]

Summary: Applicant seeks an order declaring that it has ceased to be an investment company. On February 9, 2001, applicant transferred its assets to PACE Global Fixed Income Investments, a series of PaineWebber PACE Select Advisors Trust, based on net asset value. Expenses of $161,041 incurred in connection with the reorganization were paid by applicant's investment adviser, Brinson Advisors, Inc.

Filing Date: The application was filed on December 17, 2001.

Applicant's Address: 51 West 52nd St., New York, NY 10019-6114.

Scudder California Tax Free Trust [File No. 811-3729]

Summary: Applicant seeks an order declaring that it has ceased to be an investment company. On June 18, 2001, applicant transferred its assets to Scudder California Tax-Free Income Fund (formerly Kemper California Tax-Free Income Fund), a series of Kemper State Tax-Free Income Series, based on net asset value. Expenses of $94,058 incurred in connection with the reorganization were paid by applicant, the acquiring fund and Zurich Scudder Investments, Inc., applicant's investment adviser.

Filing Date: The application was filed on December 5, 2001.

Applicant's Address: Two International Place, Boston, MA 02110-4103.

Farmers Investment Trust [File No. 811-9085]

Summary: Applicant seeks an order declaring that it has ceased to be an investment company. On April 9, 2001, applicant's five portfolios, Farmers Income Portfolio, Farmers Income with Growth Portfolio, Farmers Balanced Portfolio, Farmers Growth with Income Portfolio and Farmers Growth Portfolio, transferred their assets and liabilities to corresponding portfolios of Scudder Pathway Series based on net asset value. All expenses incurred in connection with the reorganization were paid by Zurich Scudder Investments, Inc., applicant's investment adviser.

Filing Date: The application was filed on December 5, 2001.

Applicant's Address: Two International Place, Boston, MA 02110-4103.

AARP Tax Free Income Trust [File No. 811-4050]

Summary: Applicant seeks an order declaring that it has ceased to be an investment company. On September 11, 2000, applicant's two series, AARP Insured Tax Free General Bond Fund and AARP High Quality Tax Free Money Fund, transferred their assets and liabilities to Scudder Managed Municipal Bonds, a series of Scudder Municipal Trust, and Scudder Tax-Free Money Fund, respectively, based on net asset value. Expenses of $626,383 incurred in connection with the reorganization were paid by applicant, Scudder Tax-Free Money Fund, and Zurich Scudder Investments, Inc., applicant's investment adviser.

Filing Date: The application was filed on December 5, 2001.

Applicant's Address: Two International Place, Boston, MA 02110-4103.

AARP Managed Investment Portfolios Trust [File No. 811-7933]

Summary: Applicant seeks an order declaring that it has ceased to be an investment company. On September 25, 2000, applicant's two series, AARP Diversified Income with Growth Portfolio and AARP Diversified Growth Portfolio, transferred their assets and liabilities to corresponding series of Scudder Pathway Series, based on net asset value. Expenses of $149,688 incurred in connection with the reorganization were paid by Zurich Scudder Investments, Inc., applicant's investment adviser.

Filing Date: The application was filed on December 5, 2001.

Applicant's Address: Two International Place, Boston, MA 02110-4103.

Scudder GNMA Fund [File No. 811-3699]

Summary: Applicant seeks an order declaring that it has ceased to be an investment company. On July 17, 2000, applicant transferred its assets to Scudder GNMA Fund (formerly AARP GNMA and U.S. Treasury Fund), a series of Scudder Income Trust (formerly AARP Income Trust), based on net asset value. Expenses of $838,829 incurred in connection with the reorganization were paid by applicant and Zurich Scudder Investments, Inc., applicant's investment adviser.

Filing Date: The application was filed on December 5, 2001.

Applicant's Address: Two International Place, Boston, MA 02110-4103.

Kemper Global Income Fund [File No. 811-5829]

Summary: Applicant seeks an order declaring that it has ceased to be an investment company. On June 18, 2001, applicant transferred its assets to Scudder Global Bond Fund, a series of Global/International Fund, Inc., based on net asset value. Expenses of $48,049 incurred in connection with the reorganization were paid by applicant and Zurich Scudder Investments, Inc., applicant's investment adviser.

Filing Date: The application was filed on December 5, 2001.

Applicant's Address: 222 South Riverside Plaza, Chicago, IL 60606.

Mercury Internet Strategies Fund, Inc. [File No. 811-9853]

Summary: Applicant seeks an order declaring that it has ceased to be an investment company. By May 23, 2001, applicant's sole shareholder redeemed its shares at net asset value. Expenses of $3,000 incurred in connection with the liquidation were paid by applicant.

Filing Dates: The application was filed on November 28, 2001, and amended on December 18, 2001.

Applicant's Address: 800 Scudders Mill Rd., Plainsboro, NJ 08536.

Master Internet Strategies Trust [File No. 811-9851]

Summary: Applicant seeks an order declaring that it has ceased to be an investment company. On October 15, 2001, applicant transferred its assets to Merrill Lynch Global Technology Fund, Inc. based on net asset value. Applicant incurred no expenses in connection with the reorganization.

Filing Dates: The application was filed on November 28, 2001, and amended on December 18, 2001.

Applicant's Address: 800 Scudders Mill Rd., Plainsboro, NJ 08536.

Kemper Income and Capital Preservation Fund [File No. 811-2305]

Summary: Applicant seeks an order declaring that it has ceased to be an investment company. On June 25, 2001, applicant transferred its assets to Scudder Income Fund, a series of Scudder Portfolio Trust, based on net asset value. Expenses of $173,273 incurred in connection with the reorganization were paid by applicant and Zurich Scudder Investments, Inc., applicant's investment adviser.

Filing Date: The application was filed on December 5, 2001.

Applicant's Address: 222 South Riverside Plaza, Chicago, IL 60606.

Kemper Short-Term U.S. Government Fund [File No. 811-5195]

Summary: Applicant seeks an order declaring that it has ceased to be an investment company. On June 25, 2001, applicant transferred its assets to Scudder Short Term Bond Fund, a series of Scudder Funds Trust, based on net asset value. Expenses of $55,843 incurred in connection with the reorganization were paid by applicant and Zurich Scudder Investments, Inc., applicant's investment adviser.

Filing Date: The application was filed on December 5, 2001.

Applicant's Address: 222 South Riverside Plaza, Chicago, IL 60606.

Kemper Horizon Fund [File No. 811-7365]

Summary: Applicant seeks an order declaring that it has ceased to be an investment company. On June 11, 2001, applicant transferred its assets to Scudder Total Return Fund (formerly Kemper Total Return Fund), based on net asset value. Expenses of $933,275 incurred in connection with the reorganization were paid by applicant, the acquiring fund and Zurich Scudder Investments, Inc., applicant's investment adviser.

Filing Date: The application was filed on December 5, 2001.

Applicant's Address: 222 South Riverside Plaza, Chicago, IL 60606.

Kemper Securities Trust [File No. 811-8393]

Summary: Applicant seeks an order declaring that it has ceased to be an investment company. On June 11, 2001, applicant transferred its assets to Scudder Growth and Income Fund, a series of Investment Trust, based on net asset value. Expenses of $31,147 incurred in connection with the reorganization were paid by applicant and Zurich Scudder Investments, Inc., applicant's investment adviser.

Filing Date: The application was filed on December 5, 2001.

Applicant's Address: 222 South Riverside Plaza, Chicago, IL 60606.

MCG Capital Corporation [File No. 811-10587]

Summary: Applicant seeks an order declaring that it has ceased to be an investment company as of December 4, 2001, the date applicant elected to be regulated as a business development company.

Filing Dates: The application was filed on December 4, 2001, and amended on December 17, 2001.

Applicant's Address: 1100 Wilson Blvd., Suite 800, Arlington, VA 22209.

AARP Cash Investment Funds [File No. 811-3650]

Summary: Applicant seeks an order declaring that it has ceased to be an investment company. On September 11, 2000, applicant's two series, AARP Premium Money Fund and AARP High Quality Money Fund, transferred their assets and liabilities to Scudder Money Market Series, a series of Scudder Money Market Trust, and Scudder Cash Investment Trust, respectively, based on net asset value. Expenses of $478,645 incurred in connection with the reorganization were paid by applicant, the surviving funds, and Zurich Scudder Investments, Inc., applicant's investment adviser.

Filing Date: The application was filed on December 4, 2001.

Applicant's Address: Two International Place, Boston, MA 02110-4103.

Trust for Financial Institutions [File No. 811-7067]

Summary: Applicant seeks an order declaring that it has ceased to be an investment company. By April 7, 1995, applicant's shareholders had voluntarily redeemed their shares at net asset value. Applicant incurred no expenses in connection with the liquidation.

Filing Date: The application was filed on September 4, 2001.

Applicant's Address: 5800 Corporate Dr., Pittsburgh, PA 15237-7000.

Merrill Lynch Internet Strategies Fund, Inc. [File No. 811-9783]

Summary: Applicant seeks an order declaring that it has ceased to be an investment company. On October 15, 2001, applicant transferred its assets to Merrill Lynch Global Technology Fund, Inc. based on net asset value. Expenses of $714,832 incurred in connection with the reorganization were paid by the surviving fund.

Filing Date: The application was filed on November 28, 2001.

Applicant's Address: 800 Scudders Mill Rd., Plainsboro, NJ 08536.

Mercury Senior Floating Rate Fund, Inc. [File No. 811-10023]

Summary: Applicant, a feeder fund in a master-feeder structure, seeks an order declaring that it has ceased to be an investment company. Applicant has never made a public offering of its securities and does not propose to make a public offering or engage in business of any kind.

Filing Date: The application was filed on December 4, 2001.

Applicant's Address: Merrill Lynch Investment Managers, L.P., 800 Scudders Mill Rd., Plainsboro, NJ 08536.

Blue Ridge Total Return Fund [File No. 811-8391]

Summary: Applicant seeks an order declaring that it has ceased to be an investment company. On June 15, 2001, applicant made a liquidating distribution to its shareholders based on net asset value. Expenses of approximately $26,700 incurred in connection with the liquidation were paid by applicant and its investment adviser, Colonial Asset Management, Inc.

Filing Date: The application was filed on December 4, 2001.

Applicant's Address: 116 South Franklin St., P.O. Box 69, Rocky Mount, NC 27802-0069.

Mentor Funds [File No. 811-6550]

Cash Resource Trust [File No. 811-7862]

Summary: Each applicant seeks an order declaring that it has ceased to be an investment company. On September 21, 2001, each applicant made a liquidating distribution to its shareholders based on net asset value. Total expenses of $1,794,983 incurred in connection with both liquidations were paid by Wachovia Corporation, parent of the investment adviser to all series of the applicants.

Filing Dates: The applications were filed on October 1, 2001, and amended on December 7, 2001.

Applicants' Address: Evergreen Funds, 200 Berkeley St., Boston, MA 02116.

For the Commission, by the Division of Investment Management, pursuant to delegated authority.
Jonathan G. Katz,
Secretary.

[FR Doc. 02-177 Filed 1-3-02; 8:45 am]

BILLING CODE 8010-01-P